FEDERAL COMMUNICATIONS COMMISSION

[DA 05-619]

Basic Reconfiguration Schedule Put Forth in the Transition Administrator's 800 MHz Regional Prioritization Plan

AGENCY: Federal Communications Commission.

ACTION: Notice.

SUMMARY: In July 2004, the Federal Communications Commission (FCC) adopted a Report and Order, in the 800 MHz Public Safety Proceeding establishing rules that reconfigure the 800 MHz band to eliminate interference to public safety and other 800 MHz land mobile communication systems. As specified in the Commission's Report and Order, the band reconfiguration process is being overseen by a Transition Administrator (TA) whose duties include providing the Commission with a plan detailing when band reconfiguration will commence in each of the fifty-five 800 MHz National Public Safety Planning Advisory Committee (NPSPAC) regions. On January 31, 2005, the TA filed the plan (Regional Prioritization Plan or RPP), containing a general schedule for implementing 800 MHz band reconfiguration.

FOR FURTHER INFORMATION CONTACT: Roberto Mussenden, Roberto.Mussenden@FCC.gov, Public Safety and Critical Infrastructure Division, Wireless Telecommunications Bureau, (202) 418-0680, TTY (202) 418-7233.

SUPPLEMENTARY INFORMATION: This is a summary of a public notice released on March 11, 2005.

1. The TA plan assigns each of the fifty-five NPSPAC regions to one of four basic “prioritization waves” with staggered approximate starting dates. Under the RPP, the first wave commences on June 27, 2005, (Wave 1), the second wave on October 3, 2005 (Wave 2), the third wave on January 3, 2006 (Wave 3) and the fourth wave on April 3, 2006 (Wave 4). The reconfiguration process for each wave begins with negotiations between affected licensees and Nextel for payment of relocation costs. Licensees may negotiate with Nextel directly or use the TA as an intermediary. There are separate six-month negotiation periods for non-NPSPAC and NPSPAC licensees. Consistent with the Commission's Report and Order, 69 FR 67823, November 22, 2004, released on August 6, 2004, the first three months of the negotiation period are voluntary, the last three months mandatory. Band reconfiguration will be completed within thirty-six months of the date on which official band reconfiguration commences, as required by the Commission's Report and Order.

2. By this notice, and as specified in the Report and Order, we approve the RPP's basic 800 MHz band reconfiguration schedule, i.e., the grouping of the NPSPAC regions into four waves and starting the reconfiguration process in each wave on the dates recommended by the TA. We believe this schedule comports with the population and interference-history considerations identified in the Report and Order. We also concur with the Transition Administrator's recommendation for separate negotiation periods for NPSPAC and non-NPSPAC licensees in each wave.

3. The Commission will release public notices establishing the start date for commencement of negotiations in each wave. These public notices will be released thirty days prior to the start dates. However, licensees may initiate negotiations before the start date, and we encourage them to do so, especially in the case of complex systems such as those that span more than one NPSPAC region.

4. The Reconfiguration Plan filed by the TA is available on the Commission's 800 MHz band reconfiguration Web page at http://www.800MHz.gov. A summary of the schedule is listed in the attachment to this notice. Questions concerning the RPP, and other Transition Administrator matters, including whether your 800 MHz system must be relocated, should be directed to Brett Haan, BearingPoint, 1676 International Drive, McLean, VA 22102, Brett.Haan@800ta.org.

Federal Communications Commission.
Ramona Melson,
Chief of Staff, Public Safety and Critical Infrastructure Division, WTB.

Attachment—800 MHz Band Reconfiguration Implementation Schedule
NPSPAC region | Description of region | Wave | Approximate start date for each wave
1 | Alabama | 3 | 1/3/06
2 | Alaska | 4 | 4/3/06
3 | Arizona | 4 | 4/3/06
4 | Arkansas | 2 | 10/3/05
5 | California (Southern) | 4 | 4/3/06
6 | California (Northern) | 1 | 6/27/05
7 | Colorado | 1 | 6/27/05
8 | NY City area (NY, NJ, & CT) | 1 | 6/27/05
9 | Florida | 3 | 1/3/06
10 | Georgia | 3 | 1/3/06
11 | Hawaii | 1 | 6/27/05
12 | Idaho | 2 | 10/3/05
13 | Illinois (except Southern Lake Michigan counties) | 1 | 6/27/05
14 | Indiana (except Southern Lake Michigan counties) | 1 | 6/27/05
15 | Iowa | 2 | 10/3/05
16 | Kansas | 2 | 10/3/05
17 | Kentucky | 2 | 10/3/05
18 | Louisiana | 2 | 10/3/05
19 | New England | 1 | 6/27/05
20 | Maryland, Northern VA & DC | 1 | 6/27/05
21 | Michigan | 4 | 4/3/06
22 | Minnesota | 2 | 10/3/05
23 | Mississippi | 3 | 1/3/06
24 | Missouri | 2 | 10/3/05
25 | Montana | 2 | 10/3/05
26 | Nebraska | 2 | 10/3/05
27 | Nevada | 1 | 6/27/05
28 | Eastern PA, DE & Southern NJ | 1 | 6/27/05
29 | New Mexico | 4 | 4/3/06
30 | Eastern Upstate NY | 4 | 4/3/06
31 | North Carolina | 3 | 1/3/06
32 | North Dakota | 2 | 10/3/05
33 | Ohio | 4 | 4/3/06
34 | Oklahoma | 2 | 10/3/05
35 | Oregon | 1 | 6/27/05
36 | Western PA | 4 | 4/3/06
37 | South Carolina | 3 | 1/3/06
38 | South Dakota | 2 | 10/3/05
39 | Tennessee | 2 | 10/3/05
40 | Texas (Central & Northeast) | 2 | 10/3/05
41 | Utah | 1 | 6/27/05
42 | Virginia | 1 | 6/27/05
43 | Washington | 4 | 4/3/06
44 | West Virginia | 2 | 10/3/05
45 | Wisconsin (except Southern Lake Michigan counties | 1 | 6/27/05
46 | Wyoming | 2 | 10/3/05
47 | Puerto Rico | 2 | 10/3/05
48 | U.S. Virgin Islands | 2 | 10/3/05
49 | Texas (Central—Austin area) | 2 | 10/3/05
50 | Texas (West & Central—Midland area) | 4 | 4/3/06
51 | Texas (East—Houston area) | 2 | 10/3/05
52 | Texas (Panhandle, High Plains & Northwest—Lubbock Area) | 2 | 10/3/05
53 | Texas (Southern—San Antonio area) | 4 | 4/3/06
54 | Southern Lake Michigan (MI, WI, IL, & IN) | 1, [The counties in MI will be in Wave 4 because of border area issues.] | 6/27/05, [4/3/06 for Wave 4 systems]
55 | Western Upstate NY | 4 | 4/3/06
| Large non-public safety systems that cover multiple NPSPAC regions assigned to different waves | Reconfiguration will begin in conjunction with the regions in the first wave in which the licensee has a system to be reconfigured

[FR Doc. 05-8209 Filed 4-26-05; 8:45 am]

BILLING CODE 6712-01-P